DEPARTMENT OF ENERGY

Federal Energy Regulatory Commission

[Docket No. EL00-66-000]

Louisiana Public Service Commission and the Council of The City of New Orleans, Louisiana v. Entergy Corporation, Entergy Service, Inc, Entergy Louisiana, Inc., Entergy Arkansas, Inc., Entergy Mississippi, Inc., Entergy New Orleans, Inc. and Entergy Gulf States, Inc., Notice of Complaint

April 11, 2000.

Take Notice that on April 10, 2000, the Louisiana Public Service Commission and the Council of the City of New Orleans filed with the Federal Energy Regulatory Commission (Commission) a Compliant against Entergy Corporation, Entergy Services, Inc., Entergy Louisiana, Inc., Entergy Gulf States, Inc., Entergy Arkansas, Inc., Entergy Mississippi, Inc. and Entergy New Orleans, Inc. seeking amendments to the Entergy System Agreement.

Any person desiring to be heard or to protest this filing should file a motion to intervene nor protest with the Federal Energy Regulatory Commission, 888 First Street, NE, Washington, DC 20426, in accordance with Rules 211 and 214 of the Commission's Rules of Practice and Procedure (18 CFR 385.211 and 385.214). All such motions or protests must be filed on or before May 1, 2000. Protests will be considered by the Commission in determining the appropriate action to be taken, but will not serve to make protestants parties to the proceeding. Any person wishing to become a party must file a motion to intervene. Copies of this filing are on file with the Commission and are available for public inspection in the Public Reference Room. This filing may also be viewed on the Internet at ­http://www.ferc.fed.us/online/rims.htm (call 202-208-2222) for assistance. Answers to he complaint shall also be due on or before May 1, 2000.

Linwood A. Watson, Jr.,
Acting Secretary.

[FR Doc. 00-9472 Filed 4-14-00; 8:45 am]

BILLING CODE 6717-01-M